NUCLEAR REGULATORY COMMISSION

10 CFR Part 35

RIN 3150-AH19

Medical Use of Byproduct Material—Recognition of Specialty Boards; Correction

AGENCY: Nuclear Regulatory Commission.

ACTION: Correcting amendment.

SUMMARY: This document contains a correction to the final regulations which were published in the Federal Register of Wednesday, March 30, 2005 (70 FR 16336) amending the Commission's training and experience requirements in 10 CFR part 35. The regulations related to the requirements for recognition of specialty boards whose certifications may be used to demonstrate the adequacy of the training and experience of individuals to serve as radiation safety officers, authorized medical physicists, authorized nuclear pharmacists, or authorized users. This action corrects the regulations by inserting a reference that was inadvertently omitted.

EFFECTIVE DATE: January 12, 2006.

FOR FURTHER INFORMATION CONTACT: Dr. Anthony N. Tse, Office of Nuclear Material Safety and Safeguards, U.S. Nuclear Regulatory Commission, Washington, DC 20555-0001; telephone (301) 415-6233, e-mail ant@nrc.gov.

SUPPLEMENTARY INFORMATION:

Background

On March 30, 2005 (70 FR 16361), NRC published a final rule amending its regulations in part 35 regarding the medical use of byproduct material. In Section 35.50, “Training for Radiation Safety Officer,” the reference to paragraph (c)(2) in paragraph (d) was inadvertently omitted.

Section 35.50 specifies that an individual fulfilling the responsibilities of Radiation Safety Officer must be:

(a) An individual who is certified by a specialty board recognized under this section,

(b) An individual who has completed a structured educational program,

(c)(1) A medical physicist who has been certified by a specialty board recognized under § 35.51(a) and who has experience in radiation safety, or

(c)(2) An authorized user (AU), authorized medical physicist (AMP), or authorized nuclear pharmacist (ANP) who has experience in radiation safety.

Currently, § 35.50(d) requires an individual seeking radiation safety officer status to obtain written attestation that the individual has satisfactorily completed the requirements in paragraphs (a), (b), or (c)(1) of this section. However, reference to paragraph (c)(2) was inadvertently omitted. This rule inserts the reference to paragraph (c)(2) in paragraph (d).

List of Subjects for Part 35

Byproduct material, Criminal penalties, Drugs, Health facilities, Health professions, Medical devices, Nuclear materials, Occupational safety and health, Radiation protection, Reporting and recordkeeping requirements.

Accordingly, 10 CFR part 35 is corrected by making the following correcting amendment:

PART 35—MEDICAL USE OF BYPRODUCT MATERIAL

1. The authority citation for part 35 continues to read as follows:

Authority: Secs. 81, 161, 182, 183, 68 Stat. 935, 948, 953, 954, as amended (42 U.S.C. 2111, 2201, 2232, 2233); Sec. 201, 88 Stat. 1242, as amended (42 U.S.C. 5841); Sec. 1704, 112 Stat. 2750 (44 U.S.C. 3504 note).

2. In § 35.50, paragraph (d) is revised to read as follows:

§ 35.50 Training for Radiation Safety Officer.

* * * * *

(d) Has obtained written attestation, signed by a preceptor Radiation Safety Officer, that the individual has satisfactorily completed the requirements in paragraph (e) and in paragraphs (a)(1)(i) and (a)(1)(ii) or (a)(2)(i) and (a)(2)(ii) or (b)(1) or (c)(1) or (c)(2) of this section, and has achieved a level of radiation safety knowledge sufficient to function independently as a Radiation Safety Officer for a medical use licensee; and

* * * * *

Dated at Rockville, Maryland, this 6th day of January, 2006.
For the Nuclear Regulatory Commission.
Michael T. Lesar,
Chief, Rules and Directives Branch, Division of Administrative Services, Office of Administration.

[FR Doc. 06-266 Filed 1-11-06; 8:45 am]

BILLING CODE 7590-01-P